RAILROAD RETIREMENT BOARD

Sunshine Act Meetings

TIME AND DATE: 10:00 a.m., April 21, 2020.

PLACE: This meeting will be held by teleconference. Members of the public wishing to attend must submit a written request at least 24 hours prior to the teleconference to receive dial-in information. All requests must be sent to SecretarytotheBoard@rrb.gov.

STATUS: This meeting will be open to the public.

MATTERS TO BE CONSIDERED:

1. Old Business

2. Agency Operations

CONTACT PERSON FOR MORE INFORMATION: Stephanie Hillyard, Secretary to the Board, (312) 751-4920.

Authority: 5 U.S.C. 552b.

Dated: April 8, 2020.
Stephanie Hillyard,
Secretary to the Board.

[FR Doc. 2020-07735 Filed 4-8-20; 4:15 pm]

BILLING CODE 7905-01-P